DEPARTMENT OF AGRICULTURE

Commodity Credit Corporation

Cooperative Conservation Partnership Initiative

AGENCY: Commodity Credit Corporation and Natural Resources Conservation Service, Department of Agriculture.

ACTION: Notice of request for proposals.

SUMMARY: Section 2707 of the Food, Conservation, and Energy Act of 2008 (2008 Act) establishes the Cooperative Conservation Partnership Initiative (CCPI) by amending section 1243 of the Food Security Act of 1985 [16 U.S.C. 3843]. The Secretary of Agriculture has delegated the authority to administer CCPI to the Chief of the Natural Resources Conservation Service (NRCS), who is Vice President of the Commodity Credit Corporation (CCC). NRCS is an agency of the Department of Agriculture (USDA). The CCPI is a voluntary conservation initiative that enables the use of certain conservation programs along with resources of eligible partners to provide financial and technical assistance to owners and operators of agricultural and nonindustrial private forest lands. In fiscal year (FY) 2010, NRCS will make Environmental Quality Incentives Program (EQIP), Conservation Stewardship Program (CSP), and Wildlife Habitat Incentive Program (WHIP) funds available to owners and operators of agricultural and nonindustrial private forest lands who participate in approved CCPI project areas.

The purpose of this notice is to solicit proposals from potential partners who seek to enter into partnership agreements with NRCS to provide assistance to producers enrolled in the various programs listed above, and to inform agricultural producers of the potential availability of program funds through approved projects.

DATES: Effective Date: The notice of request is effective April 12, 2010.

Eligible partners may submit proposals by mail or via courier.

• By mail: Proposals must be postmarked May 27, 2010.

• By courier: Proposals must be delivered by: May 27, 2010.

ADDRESSES: Written proposals should be submitted to the addresses identified below, with copies to the appropriate NRCS State Conservationist whose names and addresses are identified as an attachment to this notice. If a project is multi-State in scope, potential partners must send each State Conservationist in the proposed project area the proposal for review.

• By mail: Gregory K. Johnson, Director, Financial Assistance Programs Division, Department of Agriculture, Natural Resources Conservation Service, “National CCPI Proposal,” 1400 Independence Avenue, SW., Room 5239 South Building, Washington, DC 20250. (Note: Registered or Certified Mail to a Post Office Box will not be accepted.)

• By courier: Gregory K. Johnson, Director, Financial Assistance Programs Division, Department of Agriculture, Natural Resources Conservation Service, “National CCPI Proposal,” 1400 Independence Ave., SW., Room 5239 South Building, Washington, DC 20250. Proposals will be accepted between 9 a.m. and 4 p.m. Eastern time, Monday through Friday, except Federal holidays. Please ask the guard at the entrance to the South Building to call (202) 720-1845.

Note: Proposals submitted by fax, e-mail, or after the deadline date listed in this notice will not be considered.

FOR FURTHER INFORMATION CONTACT: Gregory Johnson, Director, Financial Assistance Programs Division, Department of Agriculture, Natural Resources Conservation Service, 1400 Independence Avenue, SW., Room 5239 South Building, Washington, DC 20250; Telephone: (202) 720-1845; fax: (202) 720-4265; or e-mail: CCPI@wdc.usda.gov. Additional information regarding CCPI is available at the following NRCS Web page: http://www.nrcs.usda.gov/programs/CCPI/.

Persons with disabilities who require alternative means for communication (Braille, large print, audio tape, etc.) should contact the USDA TARGET Center at: (202) 720-2600 (voice and TDD).

SUPPLEMENTARY INFORMATION:

Revisions to the CCPI Notice

The fiscal year (FY) 2010 notice of request for proposals includes significant additions in comparison with the notice issued in FY 2009. Generally, the basic authority, procedures, and program requirements have not changed. Partners who responded to the FY 2009 notice reported difficulty in understanding where and how to apply, confusion about administration and purpose of the new CCPI authority and requirements of partners, misunderstanding that CCPI was not a grant program for partners, lack of knowledge about NRCS resource concerns and conservation practices that needed to be addressed through the partnership, frustration in NRCS terminology used in the notice, and other concerns. As the result of these concerns, the agency is revising this notice to provide better explanation of the program and requirements for proposal submission. This notice includes more explanation of the program, added definitions, clarification of the requirements and criteria to be addressed in the proposal, links to resources to help partners apply, and other general improvements. While the FY 2010 notice is longer than the FY 2009, the actual requirements for submission of the proposal are not significantly different and pose no additional burden or workload.

Availability of Funding

Effective on the publication date of this notice, NRCS announces the availability of at least $5 million in financial assistance to support new projects during FY 2010. NRCS will implement CCPI by entering into partnership agreements with eligible State and local governments, federally recognized Indian tribes, producer associations, farmer cooperatives, institutions of higher education, and nongovernmental organizations with a history of working cooperatively with producers.

NRCS will implement CCPI by entering into partnership agreements with eligible entities to provide financial and technical assistance to owners and operators of agricultural and nonindustrial private forest lands to address priority natural resource concerns. Eligible partners must submit complete proposals to Gregory K. Johnson, Director, Financial Assistance Programs Division. Proposals are submitted by eligible partners, and project evaluation will be based upon a competitive process and the criteria established in this notice. Once the Chief approves and announces the proposals selected, agricultural producers within the approved project areas may submit an application directly to NRCS for one or more of the following programs that may be approved for the project: EQIP, CSP, or WHIP.

The following are eligible to submit a proposal and enter into a partnership agreement with NRCS: Federally recognized Indian tribes; State and local units of government; producer associations; farmer cooperatives; and institutions of higher education or nongovernmental organizations with a history of working cooperatively with producers. Nongovernmental organizations are entities as defined by the Internal Revenue Service and as cited in the definitions section of this notice. This is not a grant program, and all Federal funds made available through this request for proposals will be paid directly to producers through program contract agreements. No technical assistance funding may be provided to a partner through the CCPI partner agreement. However, if requested by a partner, the State Conservationist may consider development of a separate contribution agreement with a qualified partner to provide funding for delivery of technical services to producers participating in an approved CCPI project.

Individual agricultural producers are not CCPI eligible entities and may not submit proposals, nor may they apply for program benefits through this proposal submission process. No Federal CCPI funding may be used to cover partner's administrative expenses. Administrative activities include any indirect or direct costs relating to submitting or implementing the project proposal. This notice provides information about CCPI and instructions for submitting partner proposals. Project approval and development of partnership agreements for projects will be based on competitive evaluation and the criteria established in this notice.

Definitions

Agricultural land means cropland, grassland, rangeland, pasture, and other agricultural land on which agricultural and forest-related products or livestock are produced and resource concerns may be addressed. Other agricultural lands may include cropped woodland, marshes, incidental areas included in the agricultural operation, and other types of agricultural land used for production of livestock.

Agricultural operation in reference to CSP means all agricultural land and other land, as determined by NRCS, whether contiguous or noncontiguous:

(1) Which is under the effective control of the producer for the term of the proposed contract; and

(2) Which is operated by the producer with equipment, labor, management, and production or cultivation practices that are substantially separate from other operations.

Animal waste storage or treatment facility means a structural conservation practice used for storing or treating animal waste.

Applicant means a person, legal entity, joint operation, or tribe that has an interest in an agricultural or forestry operation, as defined in 7 CFR part 1400, who has requested to participate in EQIP, CSP, or WHIP.

Beginning Farmer or Rancher means a person or legal entity who:

(1) Has not operated a farm or ranch, or who has operated a farm or ranch for not more than 10 consecutive years. This requirement applies to all members of an entity who will materially and substantially participate in the operation of the farm or ranch.

(2) In the case of a contract with an individual, individually, or with the immediate family, material and substantial participation requires that the individual provide substantial day-to-day labor and management of the farm or ranch consistent with the practices in the county or State where the farm is located.

(3) In the case of a contract with an entity or joint operation, all members must materially and substantially participate in the operation of the farm or ranch. Material and substantial participation requires that each of the members provide some amount of the management or labor necessary for day-to-day activities, such that if each of the members did not provide these inputs, operation of the farm or ranch would be seriously impaired.

Chief means the Chief of the Natural Resources Conservation Service, or designee.

Conservation Activity Plan means a resource-specific conservation plan prepared by a certified Technical Service Provider (TSP) as authorized by the 2008 Act for financial assistance payment through EQIP for eligible land of the producer.

Conservation activities related to CSP means conservation systems, practices, or management measures needed to address a resource concern or improve environmental quality through the treatment of natural resources, and includes structural, vegetative, and management activities, as determined by NRCS. In general and for other programs, the term conservation activities includes any kind of measure, treatment, practice, or activity associated with an agricultural operation which may or may not be associated with an NRCS conservation practice or program support.

Conservation Measurement Tool means procedures developed by NRCS to estimate the level of environmental benefit to be achieved by a producer using the proxy of conservation performance improvement.

Conservation planning means using the NRCS planning process outlined in the NRCS National Planning Procedures Handbook (NPPH). The NPPH is available at: http://directives.sc.egov.usda.gov/.

Conservation practice means one or more conservation improvements and planning activities including structural practices, land management practices, vegetative practices, forest management practices, and other improvements that achieve the program purposes that are planned and installed in accordance with standards and specifications contained in the NRCS Field Office Technical Guide (FOTG). Only EQIP may provide financial assistance for support of the activity of conservation planning. Conservation practices funded through CCPI are subject to requirements of each of the authorized programs:

(1) EQIP regulation 7 CFR part 1466.— http://www.nrcs.usda.gov/programs/eqip.

(2) CSP regulation 7 CFR part 1470— http://www.nrcs.usda.gov/programs/new_csp/csp.html/.

(3) WHIP regulation 7 CFR part 636— http://www.nrcs.usda.gov/programs/whip/.

Conservation Stewardship Plan means a record of the participant's decisions that describes the schedule of operations and conservation activities to be implemented, managed, maintained, or improved. Associated supporting information that identifies and inventories resource concerns and existing conservation activities, establishes benchmark data, and documents the participant's conservation objectives will be maintained with the plan.

Conservation system means a combination of conservation practices, management measures, and enhancements used to address natural resource and environmental concerns in a comprehensive, holistic, and integrated manner.

Contract as defined in the EQIP and CSP regulation means a legal document that specifies the rights and obligations of any participant accepted to participate in EQIP or CSP. A program contract is a binding agreement for the transfer of assistance from USDA to the participant to share in the costs of applying conservation practices.

Cost-share agreement as defined in the WHIP regulation means a legal document that specifies the rights and obligations of any participant accepted into WHIP. A WHIP cost-share agreement is a binding agreement for the transfer of assistance from USDA to the participant to share in the costs of applying conservation.

Conservation Stewardship Program means a program administered by NRCS in accordance with 7 CFR part 1470, which provides for technical and financial assistance to encourage producers to address resource concerns in a comprehensive manner by undertaking additional conservation activities and improving, maintaining, and managing existing conservation activities.

Cropland means land used primarily for the production of adapted crops for harvest, including but not limited to land in row crops or close-grown crops, forage crops that are in a rotation with row or close-grown crops, permanent hayland, horticultural crops, orchards, vineyards, cropped woodland, marshes, cranberry bogs, and other lands used for crop production.

Cropped woodland and marshes means woodland and marshes in which at least 50 percent of the area is actively managed to produce an agricultural product. The crop may be grown symbiotically within the system, such as ginseng and wild rice, or harvested directly from the trees, such as maple syrup. Once established, the agricultural product is harvested annually.

Designated conservationist means an NRCS employee whom the State Conservationist has designated as responsible for administration of NRCS programs at the local level.

Enhancement means a type of conservation activity associated with CSP used to treat natural resources and improve conservation performance. Enhancements are installed at a level of management intensity that exceeds the sustainable level for a given resource concern, and those directly related to a practice standard are applied in a manner that exceeds the minimum treatment requirements of the standard.

Environmental Quality Incentives Program means a program administered by NRCS in accordance with 7 CFR part 1466 (http://www.nrcs.usda.gov/programs/eqip) which provides technical and financial assistance to eligible producers for the installation and implementation of conservation practices and activities on private agricultural and nonindustrial forest land.

Field Office Technical Guide means the official local NRCS source of resource information, conservation practice standards, specifications, and interpretation of guidelines, criteria, and requirements for planning and applying conservation practices and conservation management systems. It contains natural resource quality criteria to be achieved to provide for the conservation and sustainability of soil, water, air, plant, and animal resources applicable to the geographic area where resource concerns are addressed. The FOTG can be accessed online at: http://www.nrcs.usda.gov/technical/efotg/.

Financial assistance means a payment made to the program participant.

Forest Management Plan means a site-specific plan that is prepared by a professional resource manager, in consultation with the participant, and is approved by the State Conservationist. Forest management plans may include a forest stewardship plan, as specified in Section 5 of the Cooperative Forestry Assistance Act of 1978 (16 U.S.C. 2103a); another practice plan approved by the State Forester; or another plan determined appropriate by the State Conservationist. The plan must comply with Federal, State, tribal, and local laws, regulations, and permit requirements.

Hayland means a subcategory of cropland managed for the production of forage crops that are machine harvested. The crop may be grasses, legumes, or a combination of both.

Indian land is an inclusive term describing all lands held in trust by the United States for individual Indians or tribes, or all lands, titles to which are held by individual Indians or tribes, subject to Federal restrictions against alienation or encumbrance, or all lands that are subject to the rights of use, occupancy, and benefit of certain tribes. For purposes of this notice, the term Indian land also includes land for which the title is held in fee status by Indian tribes, and the U.S. Government owned land under Bureau of Indian Affairs jurisdiction.

Indian tribe means any Indian tribe, band, nation, or other organized group or community, including any Alaska Native village or regional or village corporation as defined in or established pursuant to the Alaska Native Claims Settlement Act (43 U.S.C. 1601 et seq.) that is federally recognized as eligible for the special programs and services provided by the United States to Indians because of their status as Indians.

Joint agreement means a business arrangement where two or more participants cooperate to carry out conservation practices that can best be accomplished by combining resources. Such agreements must be formally documented and signed by all applicable parties.

Joint operation means a general partnership, joint venture, or other similar business arrangement in which the members are jointly and severally liable for the obligations of the organization.

Limited Resource Farmer or Rancher means:

(1) A person with direct or indirect gross farm sales of not more than $155,200 in each of the previous 2 years (adjusted for inflation using Prices Paid by Farmer Index as compiled by the National Agricultural Statistical Service); and

(2) Has a total household income at or below the national poverty level for a family of four, or less than 50 percent of county median household income in each of the previous 2 years (to be determined annually using Department of Commerce data).

Local working group means the advisory body pursuant to 16 U.S.C. 3861 and described in 7 CFR part 610. Information regarding these groups can be found at: http://www.nrcs.usda.gov/programs/StateTech/.

Management measure means one or more specific actions that is not a conservation practice, but has the effect of alleviating problems or improving the treatment of the natural resources.

National Organic Program means the program, administered by the USDA Agricultural Marketing Service, which regulates the standards for any farm, wild crop harvesting, or handling operation that wants to market an agricultural product as organically produced.

Natural Resources Conservation Service means an agency of the USDA which has responsibility for administering programs such as EQIP, WHIP, and CSP using the funds, facilities, and authorities of the CCC.

Nongovernmental organization is any legal entity that is organized for, and at all times since, the formation of the organization has been operated principally for one or more of the conservation purposes specified in clause (i), (ii), (iii), or (iv) of section 170(h)(4)(A) of the Internal Revenue Code of 1986; is an organization described in section 501(c)(3) or that is described in section 509(a)(2) of that Code; or is described in section 509(a)(3) of that Code and

Nonindustrial private forest land means rural land, as determined by the Secretary, that has existing tree cover or is suitable for growing trees and is owned by any nonindustrial private individual, group, association, corporation, Indian tribe, or other private legal entity that has definitive decisionmaking authority over the land.

Participant means a person or legal entity, joint operation, or tribe that is receiving payment or is responsible for implementing the terms and conditions of a contract or cost-share agreement under a program covered by CCPI.

Partner means an entity that enters into a partnership agreement with NRCS to carry out the approved CCPI project. Eligible partners include federally recognized Indian tribes, State and local units of government, producer associations, farmer cooperatives, and institutions of higher education or nongovernmental organizations with a history of working cooperatively with producers.

Note: Individual agricultural producers are not partners under provisions of CCPI and are not eligible to submit proposals as outlined in this notice.

Partnership agreement means a multi-year agreement between NRCS and the partner. The CCPI partnership agreement describes the activities and resources, such as technical or financial assistance, that may be provided by NRCS and the partner to help producers meet the objectives of CCPI in an approved project area. The CCPI partnership agreement does not transfer financial or technical assistance funding to a partner, nor provide for the administrative expenses of the partner. Individual producers may not enter into partnership agreements under CCPI authority.

Pastureland means grazing lands comprised of introduced or domesticated native forage species that are used primarily for the production of livestock. They receive periodic renovation and cultural treatments such as tillage, fertilization, mowing, weed control, and may be irrigated. They are not grown in rotation with crops.

Payment means financial assistance provided to a program participant under the terms of the contract or cost-share agreement. Payments and payment rates are established by program rule. Payments are only provided to assist with implementation of approved conservation practices and activities listed in the FOTG and must meet all other applicable program requirements.

Priority resource concern means a resource concern that is identified by the State Conservationist, with advice from the State Technical Committee and local work groups, as a priority for a State or the specific geographic areas within a State.

Producer means a person, legal entity, or joint operation who has an interest in the agricultural operation, according to 7 CFR part 1400, or who is engaged in agricultural production or forestry management.

Projects of special environmental significance means projects, as defined in 7 CFR 1466(d) and approved by the Chief, which meet the following criteria:

(1) Site-specific evaluations have been completed, documenting that the project will have substantial positive impacts on critical resources in or near the project area (e.g., impaired water bodies or at-risk species);

(2) The project clearly addresses a national priority and State, tribal, or local priorities, as applicable; and

(3) The project assists the participant in complying with Federal, State, and local regulatory requirements.

Rangeland means land on which the historic climax plant community is predominantly grasses, grass-like plants, forbs, or shrubs and includes lands revegetated naturally or artificially when routine management of that vegetation is accomplished mainly through manipulation of grazing. Rangelands include natural grasslands, savannas, shrublands, most deserts, tundra, alpine communities, coastal marshes, and wet meadows.

Resource concern means a specific natural resource problem that represents a significant concern in a State or region, and is identified in the proposal to be addressed through the implementation of conservation practices by producers. Resource concerns used by NRCS are found in section III of each State or local FOTG which can be viewed at: http://www.nrcs.usda.gov/technical/efotg/. Examples of natural resource concerns include soil quality, water conservation, water quality, plant condition, air quality, domestic animals, fish and wildlife habitat, and other sub-categories of resource concerns.

Resource-conserving crop means a crop that is one of the following:

(1) A perennial grass, legume, or grass/legume grown for use as forage, seed for planting, or green manure.

(2) A high residue producing crop.

(3) A cover crop following an annual crop.

Resource-conserving crop rotation means a crop rotation that:

(1) Includes at least one resource conserving crop as determined by the State Conservationist.

(2) Reduces erosion.

(3) Improves soil fertility and tilth.

(4) Interrupts pest cycles.

(5) Reduces depletion of soil moisture or otherwise reduces the need for irrigation in applicable areas.

Socially Disadvantaged Farmer or Rancher means a farmer or rancher who has been subjected to racial or ethnic prejudices because of their identity as a member of a group without regard to their individual qualities. Those groups include African Americans, American Indians or Alaskan natives, Hispanics, Asians, and native Hawaiians or other Pacific Islanders.

State Conservationist means the NRCS employee who is authorized to implement conservation programs administered by NRCS and who directs and supervises NRCS activities in a State, the Caribbean Area, or the Pacific Islands Area.

State Technical Committee means a committee established by the USDA Secretary in a State pursuant to 16 U.S.C. 3861 and described in 7 CFR part 610. Information regarding these committees can be found at: http://www.nrcs.usda.gov/programs/StateTech/.

Technical assistance means technical expertise, information, and tools necessary for the conservation of natural resources on land active in agricultural, forestry, or related uses. The term includes: (1) Technical services provided directly to farmers, ranchers, and other eligible entities, such as conservation planning, technical consultation, and assistance with design and implementation of conservation practices; and (2) technical infrastructure including activities, processes, tools, and agency functions needed to support delivery of technical services, such as technical standards, resource inventories, training, data, technology, monitoring, and effects analyses. Information regarding technical assistance can be found at: http://www.nrcs.usda.gov/programs/cta/.

Technical Service Provider means an individual, private-sector entity, or public agency certified by NRCS, in accordance with 7 CFR part 652, to provide technical services to program participants in lieu of or on behalf of NRCS.

Wildlife Habitat Incentive Program means a program administered by NRCS in accordance with 7 CFR part 636, which provides for technical and financial assistance to protect, restore, develop, and enhance wildlife habitat.

Overview of the Cooperative Conservation Partnership Initiative

Background

The CCPI is a voluntary conservation initiative that enables the use of certain conservation programs along with resources of eligible partners to provide financial and technical assistance to owners and operators of agricultural and nonindustrial private forest lands and will enhance conservation outcomes. Depending upon the program available, the assistance provided enables participants to implement conservation practices and enhancements, including the development and adoption of innovative conservation practices and management approaches. The partner is not required to provide financial or technical resources toward the project (match); however, proposals that include or offer partner provided resources will be given higher priority consideration in the evaluation process. CCPI financial assistance is delivered directly to producers in approved project areas through program contracts or cost-share agreements; no CCPI funding may be used to cover the partner's administrative expenses.

CCPI uses the funds, policies, and processes of EQIP, CSP, and WHIP to deliver assistance to owners and operators of agricultural and nonindustrial private forest land to implement approved conservation practices and activities. Under CCPI, NRCS enters into partnership agreements with eligible entities that want to enhance conservation outcomes on agricultural and nonindustrial private forest land. As part of the partnership agreement, approved partners may also help facilitate the submission of producers' program applications, or they may provide additional technical or financial assistance to participating agricultural producers or provide other resources as defined in the partnership agreement. A primary intent of CCPI is to leverage non-Federal government resources along with NRCS program resources to achieve resource conservation objectives. The purposes of the CCPI partnership agreement are to:

(1) Address conservation priorities involving agriculture and nonindustrial private forest land on local, State, multi-State, or regional levels;

(2) Encourage producers to cooperate in meeting applicable Federal, State, and local regulatory requirements related to production;

(3) Encourage producers to cooperate in the installation and maintenance of conservation practices; and

(4) Promote the development and demonstration of innovative conservation practices and delivery methods, including practices associated with specialty crop and organic production and precision agriculture operations.

Partners who may enter into partnership agreements with NRCS include federally recognized Indian tribes, State and local units of government, producer associations, farmer cooperatives, institutions of higher education, and nongovernmental organizations with a history of working cooperatively with producers to effectively address conservation priorities related to agricultural production and nonindustrial private forest land. Individual agricultural producers are not an eligible partner entity and may not submit CCPI proposals. Potential entity partners may submit proposals that request assistance for a specified project area that may be defined by geo-political boundaries, watershed boundaries, or resource concern. The written proposal must describe the area to be covered by the project, conservation priorities in the area, conservation objectives to be achieved, and the number of producers including nonindustrial private forest landowners who are likely to participate; a description of the partner or partners collaborating to achieve the objectives of the agreement, and the roles, responsibilities, and capabilities of the partner(s); the resources requested from the Chief and the partner; the plan for monitoring, evaluating, and reporting on progress made towards achieving the objectives of the agreement; and other information that may be required.

Once a partnership proposal is selected and the project announced, eligible individual producers located within the project area may apply directly to NRCS for funding under the appropriate conservation program. Individual applications from eligible producers will be evaluated and ranked to ensure that producer applications selected for funding are most likely to achieve project objectives. All Federal funds made available through this CCPI request for proposals will be provided directly to eligible participants through EQIP and CSP program contracts and WHIP cost-share agreements. Producers interested in applying must meet the eligibility requirements of the program for which they are applying.

No technical or financial assistance funding may be provided to a partner through the CCPI partner agreement. However, if requested by a partner, the State Conservationists or Chief may consider development of a separate funding agreement with a qualified partner for delivery of technical services to producers participating in an approved CCPI project.

During FY 2010, an objective of CCPI is to deliver EQIP, CSP, and WHIP assistance to producers to achieve high-priority conservation objectives in geographic areas defined by the partner. Where flexibility is needed to meet project objectives, the partner may request that program adjustments be allowed, provided such policy adjustments are within the scope of the applicable programs' statutory and regulatory program authorities. An example of a program adjustment may be to expedite the applicable program ranking process in a situation where a partner has identified the producers approved to participate in the project. Other examples of program adjustments may include flexibility in payment rate, or using a single area-wide plan of operations rather than individual plans of operations.

Submitting Proposals

Potential partners must submit proposals to Gregory K. Johnson, Director, Financial Assistance Programs Division, addressing all questions and items listed in the “Proposal Requirements” section of this notice. The proposals must be submitted by the date and time identified in this notice. The proposal must include sufficient detail to allow agency reviewers to understand the partner's priority resource concerns, objectives, and expected outcomes.

Incomplete proposals and those that do not meet the requirements set forth in this notice will not be considered, and notification of elimination will be mailed to the applicant. State Conservationists are expected to provide guidance to potential partners regarding resource concerns that may be addressed in the proposed project area, local working group and State Technical Committee natural resource priorities, approved conservation practices and activities, and other program requirements the partner should consider when developing a proposal. No agency form is provided; potential partners must provide a narrative proposal following the requirements set forth in this notice.

NRCS will review and evaluate the proposals based on the criteria set forth in this notice. Positive consideration will be given to proposals that provide for outreach to beginning farmers or ranchers, socially disadvantaged farmers or ranchers, limited resource farmers or ranchers, and Indian tribes within the area covered by the project. Priority consideration will also be given to proposals that both achieve program purposes, including regional efforts that cross State boundaries, and further the Nation's efforts with renewable energy production, energy conservation, mitigating the effects of climate change, facilitating climate change adaptation, or fostering carbon sequestration. CCPI proposals submitted to NRCS become the property of the agency for use in the administration of the program, may be filed or disposed of by the agency, and will not be returned to the potential partner. Once proposals have been submitted for review and ranking, there will be no further opportunity to change or re-submit the proposal.

Partner Entity Eligibility

Those eligible to participate as partners include federally recognized Indian tribes, State and local units of government, producer associations, farmer cooperatives, institutions of higher education, or nongovernmental organizations with a history of working cooperatively with producers to effectively address conservation priorities related to agricultural production and nonindustrial private forest land. Individual producers are not eligible to submit proposals under CCPI authorities.

Land Eligibility

The following land is eligible for enrollment in the CCPI:

• Private agricultural and nonindustrial private forest land

• Land meeting the covered programs (EQIP, CSP, and WHIP) eligibility rules Eligible land is defined for each program in regulation:

• EQIP: 7 CFR 1466.8(c)

• CSP: 7 CFR 1470.6(b)

• WHIP: 7 CFR 636.4(b)

Producer Application and Program Contracts

Producers interested in participating in an approved CCPI project may apply for assistance at their local USDA service center. The designated conservationist will help the producer determine which program (EQIP, CSP, or WHIP) is appropriate based on the practices and activities the applicant seeks to install or perform to meet the approved partner project objectives.

Producers seeking to participate in a CCPI project must meet all program-specific eligibility requirements. The requirements that apply to the contract or cost-share agreement are determined by the program selected. For information on program payment limitations and benefits or other program requirements that may apply to land and producers enrolled in EQIP, CSP, and WHIP, consult the appropriate programs' regulation as stated in this notice. Additional information can be found at NRCS Web site at: http://www.nrcs.usda.gov/programs/. An agricultural producer may elect to use a TSP for technical assistance associated with conservation planning or practice design and implementation. Producers applying for CCPI are not required to have an existing program contract, although they must be determined eligible for the assistance being requested from each program prior to entering into a program contract.

Proposal Requirements

For consideration of a proposal, a potential partner must submit five copies of the written proposal and one electronic copy. Projects may not exceed 5 years in length. The proposal must be in the following format and contain the information set forth below:

Proposal Format: There are no forms required or associated with the CCPI proposal process. Five copies of the proposal should be typewritten or printed on 8½″ x 11″ white paper. The text of the application should be in a font no smaller than 12-point, with one-inch margins. One additional copy of the proposal shall be in a format such as Microsoft Word or PDF on one CD ROM. If submitting more than one project proposal, submit a separate complete document for each project. Consult the NRCS national CCPI Web site for an example of an acceptable CCPI proposal document at: http://www.nrcs.usda.gov/programs/ccpi/. The entire project proposal may not exceed 12 pages in length including summary, maps, reference materials, and related reports.

Proposal Summary

The basic format for the CCPI proposal is a narrative written response to the questions and information requested in this notice. The proposal must include the following:

(1) Proposal Cover and Summary: The first two pages of the proposal must include:

(a) Project Title.

(b) Project director/manager name, telephone number, and e-mail address.

(c) Name of lead partner entity submitting proposal and other collaborating partners.

(d) Mailing address and telephone numbers for lead partner submitting proposal.

(e) Short general description/summary of project and description of resource issues to be addressed. Identify the specific natural resource concerns to be addressed.

(f) List of approved FOTG conservation practices, enhancements, and conservation activity plans that will be used to address those resource concerns.

(g) Specify the geographic location: State; county(s); congressional districts; and whether proposal is a national multi-State or within-State proposal. Include a general location map.

(h) Proposed project start and end dates (not to exceed a period of 5 years).

(i) Total amount of CCPI financial assistance being requested for project.

(2) Project Natural Resource Objectives and Actions:

The proposal must include the project objectives and the natural resource concerns that will be addressed. A complete list of NRCS approved natural resource concerns may be found on the CCPI Web site at: http://www.nrcs.usda.gov/programs/ccpi/.

(a) Identify and provide detail about the natural resource concern(s) to be addressed and how the proposal objectives will address those concerns. Objectives should be specific, measurable, achievable, results-oriented, and include a timeline for completion.

(b) For each objective, identify the actions to be completed to achieve the objective and to address the identified natural resource concern. Note which actions are to be addressed through this project using NRCS program assistance and which are being addressed through alternate non-Federal funding sources or other resources provided.

(3) Detailed Proposal Criteria:

Potential partners must fully describe their project and demonstrate their history of working with agricultural producers to address resource issues. Information provided in the proposal must include:

(a) A description of the partner or partners' history of working with agricultural producers to address the conservation objectives to be achieved.

(b) A detailed description of the geographic area covered by the proposal, conservation priorities in the area, conservation objectives to be achieved, lands to be treated, and the expected level of participation by producers.

(1) Include a detailed map showing the project area. Describe the location and size of the proposed project area. Are the size and scope of the project and the proposed practices to address resource concerns reasonable and achievable?

(2) Outline on the maps the areas which need conservation treatment and identify the number of acres involved. What kinds of conservation practices or enhancements needed to treat priority resource concerns in each area? Are specific areas or conservation practices prioritized in the project area so they will best address specific resource concerns? Which priority areas need to be addressed first?

(c) A description of how the partner(s) will collaborate to achieve the objectives of the agreement and the roles, responsibilities, and capabilities of the partner(s). Proposals that include resources from other than the submitter of the proposal must include a letter or other documentation from the other partners confirming this commitment of resources. Proposals that demonstrate efforts to collaborate with other partners and producers are likely to provide increased environmental benefits, meet the objectives of CCPI, and receive higher ranking consideration in the evaluation process.

(d) A description of the project duration which cannot exceed 5 years in length, plan of action, and project implementation schedule that details when the potential partner anticipates finishing the project and submitting a final report.

(e) A description of the resources (financial and technical assistance) requested from each of the applicable NRCS programs (EQIP, WHIP, and CSP) and the non-Federal resources provided by the partner that will be leveraged by the Federal contribution. A primary intent of CCPI is to leverage other non-Federal resources along with NRCS program resources to achieve project objectives. The partner is not required to provide financial or technical resources (match) toward the project; however, proposals that include or offer non-Federal resources will be given higher priority through the evaluation process. Partners need to clearly state, by project objective, how they intend to leverage Federal funds along with partner resources. The funding and time contribution by agricultural producers to implement agreed-to conservation practices in program contracts may not be considered any part of a match from the potential partner for purposes of CCPI. One purpose of CCPI is to leverage non-Federal resources from partners above and beyond those contributions made by individual producers.

(f) A description of the plan for monitoring, evaluating, and reporting on progress made toward achieving the objectives of the agreement. Priority will be given to projects where the partner can provide resources or services or conduct activities to monitor and evaluate effects of conservation practices and activities implemented through the project.

(g) Identify potential criteria to be used by NRCS to prioritize and rank agricultural producers' CCPI applications in the project area. Potential partners should collaborate with NRCS in the State where the project is proposed to develop meaningful criteria that NRCS can use to evaluate and rank producer program applications. For approved projects, this joint effort will help NRCS select producer applications which will best accomplish the projects' intended conservation goals and address priority resource issues identified by the partner in the proposal. Additional information regarding the process NRCS uses to evaluate and rank individual producer applications is found in each of the authorized programs' regulations. Proposals which include specific ranking criteria developed in collaboration with NRCS may receive higher consideration in the evaluation process. Additional guidance and assistance to develop appropriate criteria may be obtained from State NRCS office where the project will be located.

(h) An estimate of the percentage of producers, including nonindustrial private forest landowners, in the project area that may participate in the project along with an estimate of the total number of producers located in the project area. Producer participation is a requirement for delivery of CCPI program benefits. How will the partner encourage participation to guarantee success of the project? Does the project include any tribal producers, beginning farmers or ranchers, socially disadvantaged farmers or ranchers, or limited resource farmers or ranchers? If so, how many are expected to participate? Are there groups of producers who may submit joint applications to address resource issues of common interest and need?

(i) A listing and description of the conservation practices, conservation activity plans, enhancements, and partner activities to be implemented during the project timeframe and the general sequence of implementation of the project. Also address technical assistance efforts that will be made by the partner and those that the partner requests NRCS implement using eligible approved conservation practices, enhancements, and project financial assistance funding. In this section, list all the NRCS conservation practices and enhancements the partner wishes NRCS to offer to producers through the CCPI project. Information about approved NRCS practices is found in the FOTG at: http://www.nrcs.usda.gov/technical/efotg/ and descriptions of practices at: http://www.nrcs.usda.gov/technical/standards/. For each conservation practice, estimate the amount of practice extent (feet, acres, number, etc.) the partner expects producers to implement each fiscal year during the life of the project and the amount of financial assistance requested to support implementation of each practice through producer contracts. Information on eligible enhancements can be found at the CSP Web site at: http://www.nrcs.usda.gov/programs/new_csp/csp.html. Indicate whether the project will address regulatory compliance and any other outcomes that partner expects to complete during the project period. Describe any activities that are innovative or include outcome-based performance measures implemented by the partner.

(j) A description of the amount of CPPI financial assistance funds needed annually for producer contracts that will be used to implement the conservation practices and enhancements identified in previous sections. This section of the proposal must include the total amount of financial assistance funds requested for each fiscal year of the project (for multi-State projects, provide the funds or acres by State as appropriate) to be made available for producer contracts and cost-share agreements.

(k) A description of any requested policy adjustments, by program, with an explanation of why the adjustment is needed in order to achieve the objectives of the project. If a partner is requesting specific program flexibilities that depend on detailed participant or project information, the proposal must provide the needed information. Partners should contact their State Conservationist, or designee, to determine the specific information that may be required.

(l) A description of how the partner will provide for outreach to beginning farmers or ranchers, limited resource farmers or ranchers, socially disadvantaged farmers or ranchers, and Indian tribes.

(m) A description of how the proposal's objectives may provide additional benefits to address renewable energy production, energy conservation, mitigating the effects of climate change, facilitating climate change adaptation, or fostering carbon sequestration, if applicable.

(4) State Conservationist Letter of Review:

Potential partners must include a copy of the letter showing that the written proposal was sent to the appropriate State Conservationist(s). If a project is multi-State in scope, all State Conservationists in the proposed project area must be sent the proposal for review. A list of NRCS State Conservationists, addresses, and phone numbers is included as an attachment at the end of this notice. The State Conservationist(s) will review the proposal to address:

(a) Potential duplication of efforts with other projects or existing programs.

(b) Adherence to, and consistency with, program regulation including requirements related to land and producer eligibility and use of approved NRCS resource concerns and conservation practices, enhancements, and other program requirements.

(c) Expected benefits for project implementation in their State(s).

(d) Other issues or concerns the State Conservationist is aware of that should be considered by the Chief.

(e) A general recommendation for support or denial of project approval.

State Conservationists must submit letters of review to Gregory K. Johnson, Director, Financial Assistance Programs Division no later than 10 calendar days after the deadline for proposal submission. Prior to submission of the proposal, potential partners are strongly encouraged to consult with the appropriate State Conservationist(s) during proposal development to obtain guidance as to appropriate resource concerns to address conservation practices needed and other details of the project proposal. All CCPI proposals become the property of NRCS for use in the administration of the program, may be filed or disposed of by the agency, and will not be returned to the partner. Once proposals have been submitted to the agency for review and ranking, there will be no further opportunity to change or re-submit the proposal document.

Acknowledgement of Submission and Notifications

Partners whose proposals have been selected will receive a letter of official notification. Upon notification of selection, the partner should contact the State Conservationist listed in the letter to develop the required partnership agreement and other project implementation requirements. Potential partners should note that, depending upon available funding and agency priorities, NRCS may offer a reduced amount of program financial assistance from what was requested in the proposal. Applicants of CCPI proposals not selected will be notified by official letter.

Withdrawal of Proposals

Partner proposals may be withdrawn by written notice to the Director, Financial Assistance Programs Division at any time prior to selection.

Ranking Considerations

The Chief or designee will evaluate proposals using a national competitive process. A higher priority may be given to proposals that:

(a) Have a high percentage of producers actively farming or managing working agricultural or nonindustrial private forest lands included in the proposed project area;

(b) Significantly leverage non-Federal financial and technical resources and coordinate with other local, State, or Federal efforts;

(c) Deliver high percentages of applied conservation practices to address water quality, water conservation, or State, regional, or national conservation initiatives;

(d) Provide innovation in approved conservation practices, conservation methods, and delivery, including outcome-based performance measures and methods;

(e) Complete the application of the conservation practices and activities on all of the covered program contracts or cost-share agreements in 5 years or less;

(f) Assist the participants in meeting local, State, and Federal regulatory requirements;

(g) Provide for monitoring and evaluation of conservation practices, enhancements, and activities;

(h) Provide for matching financial funds or technical assistance to assist participants with the implementation of their EQIP and CSP contracts and WHIP cost-share agreements;

(i) Further the Nation's efforts with renewable energy production, energy conservation, mitigating the effects of climate change, facilitating climate change adaptation, or fostering carbon sequestration;

(j) Provide for outreach to, and participation of, beginning farmers or ranchers, socially disadvantaged farmers or ranchers, limited resource farmers or ranchers, and Indian tribes within the proposed project area; and

(k) Identify other factors and criteria which best achieve the purposes of CCPI.

Partnership Agreements

Upon selection and approval, NRCS will enter into a partnership agreement with the partner. The partnership agreement will not obligate funds, but will address:

(a) The role of the partner;

(b) The role of NRCS;

(c) The responsibilities of the partner as it relates to the monitoring and evaluation;

(d) The frequency and duration of monitoring and evaluation to be completed by the partner;

(e) The format and frequency of reports (semi-annual, annual, and final) required as a condition of the partnership agreement;

(f) Budget which includes other funding sources (if applicable) for financial and technical assistance;

(g) The specified project schedule and timeframe; and

(h) Other requirements deemed necessary by NRCS to further the purposes of the CCPI project.

Once a proposal is selected, the partnership agreement is signed, and subject to the availability of funding, NRCS begins entering into EQIP and CSP contracts or WHIP cost-share agreements directly with eligible producers including nonindustrial private forest landowners who are participating in the project and located in the approved geographic area. Producer applicants must meet all program eligibility requirements. The program used will depend upon the type of conservation practices to be applied. Participants may have multiple contracts through CCPI if more than one covered program is needed to accomplish the project objectives.

Waiver Authority

To assist in the implementation of CCPI projects through EQIP, CSP, or WHIP, the Chief may waive the applicability of the Adjusted Gross Income Limitation, on a case-by-case basis in accordance with 7 CFR 1400.500(d)(2). Such waiver requests must be submitted in writing from the program applicant, addressed to the Chief, and submitted through the local designated conservationist.

Signed the 5th day of April, 2010, in Washington, DC.
Dave White,
Vice President, Commodity Credit Corporation and Chief, Natural Resources Conservation Service.

State Conservationists

AL—William E. Puckett, 3381 Skyway Drive, P.O. Box 311, Auburn, Alabama 36830, Phone: 334/887-4500, Fax: 334/887-4552, (V) 9027-4557, (E) william.puckett@al.usda.gov

AK—Robert Jones, 800 West Evergreen, Atrium Building, Suite 100, Palmer, Alaska 99645-6539, Phone: 907/761-7760, Fax: 907/761-7790, (V) 9035-2227, (E) robert.jones@ak.nrcs.usda.gov

AZ—David L. McKay, 230 North First Avenue, Suite 509, Phoenix, Arizona 85003-1706, Phone: 602/280-8801, Fax: 602/280-8809 or 8805, (V) 9011-8810, (E) david.mckay@az.nrcs.usda.gov

AR—Michael E. Sullivan, Federal Building, Room 3416, 700 West Capitol Avenue, Little Rock, Arkansas 72201-3228, Phone: 501/301-3100, Fax: 501/301-3194, (V) 9044-3110, (E) michael.sullivan@ar.usda.gov

CA—Lincoln E. (Ed) Burton, 430 G Street, Suite 4164, Davis, California 95616-4164, Phone: 530/792-5600, Fax: 530/792-5790, (V) 9040-5601, (E) ed.burton@ca.usda.gov

CO—Allen Green, 655 Parfet Street, Room E200C, Lakewood, Colorado 80215-5521, Phone: 720-544-2810, Fax: 720-544-2965, (V) 9059-2802, (E) allen.green@co.usda.gov

CT—Douglas Zehner, 344 Merrow Road, Suite A, Tolland, Connecticut 06084, Phone: 860/871-4011, Fax: 860/871-4054, (V) 9013-114, (E) douglas.zehner@ct.usda.gov

DE—Russell Morgan, 1221 College Park Drive, Suite 100, Dover, Delaware 19904-8713, Phone: 302/678-4160, Fax: 302/678-0843, (V) 9060-199, (E) russell.morgan@de.usda.gov

FL—Carlos Suarez, 2614 NW. 43rd Street, Gainesville, Florida 32606-6611 or P.O. Box 141510, Gainesville, FL 32614, Phone: 352/338-9500, Fax: 352/338-9574, (V) 9012-3501, (E) carlos.suarez@fl.usda.gov

GA—James Tillman, Federal Building, Stop 200, 355 East Hancock Avenue, Athens, Georgia 30601-2769, Phone: 706/546-2272, Fax: 706/546-2120, (V) 9021-2082, (E) james.tillman@ga.usda.gov

GU—Lawrence T. Yamamoto, Director, Pacific Basin Area, FHB Building, Suite 301, 400 Route 8, Mongmong, Guam 96910, Phone: 671/472-7490, Fax: 671/472-7288, (V) 9000-822-1265, (E) larry.yamamoto@pb.usda.gov

HI—Lawrence T. Yamamoto

300 Ala Moana Blvd., Room 4-118, P.O. Box 50004, Honolulu, Hawaii 96850-0002, Phone: 808/541-2600 x107, Fax: 808/541-1335, (V) 9042-108, (E) larry.yamamoto@hi.nrcs.usda.gov

ID—Jeffrey B. Burwell, 9173 West Barnes Drive, Suite C, Boise, Idaho 83709, Phone: 208/378-5700, Fax: 208/378-5735, (V) 9000-291-4551, (E) jeffrey.burwell@id.usda.gov

IL—William J. Gradle, 2118 W. Park Court, Champaign, Illinois 61821, Phone: 217/353-6601, Fax: 217/353-6676, (V) 9057-6601, (E) bill.gradle@il.usda.gov

IN—Jane E. Hardisty, 6013 Lakeside Blvd., Indianapolis, Indiana 46278-2933, Phone: 317/290-3200, Fax: 317/290-3225, (V) 9029-301, (E) jane.hardisty@in.usda.gov

IA—Richard Sims, 693 Federal Building, 210 Walnut Street, Suite 693, Des Moines, Iowa 50309-2180, Phone: 515/284-6655, Fax: 515/284-4394, (V) 9000-945-1065, (E) richard.sims@ia.usda.gov

KS—Kasey Taylor, Acting, Eric B. Banks, 760 South Broadway, Salina, Kansas 67401-4642, Phone: 785/823-4565, Fax: 785/452-3369, (V) 9000-345-8770, (E) eric.banks@ks.usda.gov

KY—Tom Perrin, 771 Corporate Drive, Suite 110, Lexington, Kentucky 40503-5479, Phone: 859/224-7350, Fax: 859/224-7399, (V) 9032-7390, (E) tom.perrin@ky.usda.gov

LA—Kevin D. Norton, 3737 Government Street, Alexandria, Louisiana 71302, Phone: 318/473-7751, Fax: 318/473-7626, (V) 9000-965-1635, (E) kevin.norton@la.usda.gov

ME—Juan Hernandez, 967 Illinois Avenue, Suite #3, Bangor, Maine 04401, Phone: 207/990-9100, ext. #3, Fax: 207/990-9599, (V) 9000-757-1028, (E) juan.hernandez@me.usda.gov

MD—Jon F. Hall, John Hanson Business Center, 339 Busch's Frontage Road, Suite 301, Annapolis, Maryland 21401-5534, Phone: 410/757-0861 x315, Fax: 410/757-0687, (V) 9053-315, (E) jon.hall@md.usda.gov

MA—Christine Clarke, 451 West Street, Amherst, Massachusetts 01002-2995, Phone: 413/253-4351, Fax: 413/253-4375, (V) 9047-4352, (E) Christine.clarke@ma.usda.gov

MI—Salvador Salinas, Acting, Garry D. Lee, 3001 Coolidge Road, Suite 250, East Lansing, Michigan 48823-6350, Phone: 517/324-5270, Fax: 517/324-5171, (V) 9048-5277, (E) garry.lee@mi.usda.gov

MN—Jennifer Heglund, Acting, 375 Jackson Street, Suite 600, St. Paul, Minnesota 55101-1854, Phone: 651/602-7900, Fax: 651/602-7913 or 7914, (V) 9041-7854, (E) Jennifer.heglund@mn.usda.gov

MS—Homer Wilkes, Suite 1321, Federal Building, 100 West Capitol Street, Jackson, Mississippi 39269-1399, Phone: 601/965-5205, Fax: 601/965-4940, (V) 9000-965-2065, (E) homer.wilkes@ms.nrcs.usda.gov

MO—J.R. Flores, Parkade Center, Suite 250, 601 Business Loop 70 West, Columbia, Missouri 65203-2546, Phone: 573/876-0901, Fax: 573/876-9439, (V) 9034-1367, (E) jr.flores@mo.usda.gov

MT—Joyce Swartzendruber, Federal Building, Room 443, 10 East Babcock Street, Bozeman, Montana 59715-4704, Phone: 406/587-6813, Fax: 406/587-6761, (V) 9056-6813, (E) joyce.swartzendruber@mt.usda.gov

NE—Stephen K. Chick, Federal Building, Room 152, 100 Centennial Mall, North, Lincoln, Nebraska 68508-3866, Phone: 402/437-5300, Fax: 402/437-5327, (V) 9026-4103, (E) steve.chick@ne.usda.gov

NV—Bruce Petersen, 5301 Longley Lane, Building F, Suite 201, Reno, Nevada 89511-1805, Phone: 775/857-8500, Fax: 775/857-8524, (V) 9000-784-1390, (E) bruce.petersen@nv.usda.gov

NH—George Cleek, Federal Building, 2 Madbury Road, Durham, New Hampshire 03824-2043, Phone: 603/868-7581 ext. 125, Fax: 603/868-5301, (V) 9000-868-8035, (E) george.cleek@nh.usda.gov

NJ—Thomas Drewes, 220 Davidson Avenue, Somerset, New Jersey 08873, Phone: 732/537-6040, Fax: 732/537-6095, (V) 9000-767-1000, (E) tom.drewes@nj.usda.gov

NM—Dennis L. Alexander, 6200 Jefferson Street, NE., Suite 305, Albuquerque, New Mexico 87109-3734, Phone: 505/761-4402 (Rita), Fax: 505/761-4481, (V) 9016-4401, (E) dennis.alexander@nm.usda.gov

NY—Astor Boozer, 441 South Salina Street, Suite 354, Syracuse, New York 13202-2450, Phone: 315/477-6504, Fax: 315/477-6550, (V) 9015-6501, (E) astor.boozer@ny.usda.gov

NC—J.B. Martin, Acting, 4405 Bland Road, Suite 205, Raleigh, North Carolina 27609-6293, Phone: 919/873-2102, Fax: 919/873-2156, (V) 9025-2101, (E) JB.martin@nc.usda.gov

ND—Paul Sweeney, 220 E. Rosser Avenue, Room 278, P.O. Box 1458, Bismarck, North Dakota 58502-1458, Phone: 701/530-2000, Fax: 701/530-2110, (V) 9051-2003, (E) paul.sweeney@nd.usda.gov

OH—Terry J. Cosby, 200 North High Street, Room 522, Columbus, Ohio 43215-2478, Phone: 614/255-2472, Fax: 614/255-2548, (V) 9000-881-1870, (E) terry.cosby@oh.usda.gov

OK—Ronald L. Hilliard, 100 USDA, Suite 206, Stillwater, Oklahoma 74074-2655, Phone: 405/742-1204, Fax: 405/742-1126, (V) 9037-1280, (E) ron.hillard@ok.usda.gov

OR—Ron Alvarado, 101 SW Main Street

Suite 1300, Portland, Oregon 97204-3221, Phone: 503/414-3200, Fax: 503/414-3103, (V) 9019-3201, (E) ron.alvarado@or.usda.gov

PA—Dave Brown, Acting, 1 Credit Union Place, Suite 340, Harrisburg, Pennsylvania 17110-2993, Phone: 717/237-2203, Fax: 717/237-2238, (V) 9039-2203, (E) dave.brown@pa.usda.gov

PR—Angel Figueroa, Acting, Director, Caribbean Area, IBM Building, Suite 604, 654 Munoz Rivera Avenue, Hato Rey, Puerto Rico 00918-4123, Phone: 787/766-5206, ext. 237, Fax: 787/766-5987, (V) 9000-769-1030, (E) angel.figueroa@wdc.usda.gov

RI—Richard “Pooh” Vongkhamdy, 60 Quaker Lane, Suite 46, Warwick, Rhode Island 02886-0111, Phone: 401/828-1300, Fax: 401/828-0433, (V) 9023-115, (E) pooh.vongkhamdy@ri.usda.gov

SC—Keisha Brown, Acting, Strom Thurmond Federal Building, 1835 Assembly Street, Room 950, Columbia, South Carolina 29201-2489, Phone: 803/253-3935, Fax: 803/253-3670, (V) 9031-3940, (E) Keisha.brown@sc.usda.gov

SD—Janet L. Oertly, Federal Building, Room 203, 200 Fourth Street, S.W., Huron, South Dakota 57350-2475, Phone: 605/352-1200, Fax: 605/352-1288, (V) 9036-1201, (E) janet.oertly@sd.usda.gov

TN—Kevin Brown, 675 U.S. Courthouse, 801 Broadway, Nashville, Tennessee 37203-3878, Phone: 615/277-2531, Fax: 615/277-2578, (V) 9058-2530, (E) kevin.brown@tn.usda.gov

TX—Donald W. Gohmert, W.R. Poage Federal Building, 101 South Main Street, Temple, Texas 76501-7602, Phone: 254/742-9800, Fax: 254/742-9819, (V) 9038-9803, (E) don.gohmert@tx.usda.gov

UT—Sylvia A. Gillen, W.F. Bennett Federal Building, 125 South State Street, Room 4402, Salt Lake City, Utah 84111, Phone: 801/524-4555, Fax: 801/524-4403, (V) 9000-625-1550, (E) sylvia.gillen@ut.usda.gov

VT—Judith M. Doerner, 356 Mountain View Drive, Suite 105, Colchester, Vermont 05446, Phone: 802/951-6795, Fax: 802/951-6327, (V) 9000-768-1240, (E) judy.doerner@vt.usda.gov

VA—Vicky Drew, Acting, Jack Bricker, Culpeper Building, Suite 209, 1606 Santa Rosa Road, Richmond, Virginia 23229-5014, Phone: 804/287-1691, Fax: 804/287-1737, (V) 9003-1682, (E) jack.bricker@va.usda.gov

WA—Roylene Rides at the Door, Rock Pointe Tower II, W. 316 Boone Avenue, Suite 450, Spokane, Washington 99201-2348, Phone: 509/323-2900, Fax: 509/323-2909, (V) 9035-2901, (E) door@wa.usda.gov

WV—Kevin Wickey, 75 High Street, Room 301, Morgantown, West Virginia 26505, Phone: 304/284-7540, Fax: 304/284-4839, (V) 9049-7542, (E) kevin.wickey@wv.usda.gov

WI—Ivan Dozier, Acting, Patricia Leavenworth, 8030 Excelsior Drive, Suite 200, Madison, Wisconsin 53717, Phone: 608/662-4422, Fax: 608/662-4430, (V) 9018-222, (E) pat.leavenworth@wi.usda.gov

WY—J. Xavier Montoya, Federal Building, Room 3124, 100 East B Street, Casper, Wyoming 82601-1911, Phone: 307/233-6750, Fax: 307/233-6753, (V) 9000-951-1015, (E) Xavier.montoya@wy.usda.gov

[FR Doc. 2010-8244 Filed 4-9-10; 8:45 am]

BILLING CODE 3410-16-P